DEPARTMENT OF TRANSPORTATION

Pipeline and Hazardous Materials Safety Administration

[Docket No. PHMSA-2017-0018 (Notice No. 2017-01)]

Hazardous Materials: Information Collection Activities

AGENCY: Pipeline and Hazardous Materials Safety Administration (PHMSA), DOT.

ACTION: Notice and request for comments.

SUMMARY: In accordance with the Paperwork Reduction Act of 1995, PHMSA invites comments on 11 information collections pertaining to hazardous materials transportation for which PHMSA intends to request renewal from the Office of Management and Budget.

DATES: Interested persons are invited to submit comments on or before June 20, 2017.

ADDRESSES: You may submit comments identified by the Docket Number PHMSA-2017-0018 (Notice No. 2017-01) by any of the following methods:

• Federal eRulemaking Portal: http://www.regulations.gov. Follow the instructions for submitting comments.

• Fax: 1-202-493-2251.

• Mail: Docket Management System; U.S. Department of Transportation, West Building, Ground Floor, Room W12-140, Routing Symbol M-30, 1200 New Jersey Avenue SE., Washington, DC 20590.

• Hand Delivery: To the Docket Management System; Room W12-140 on the ground floor of the West Building, 1200 New Jersey Avenue SE., Washington, DC 20590, between 9 a.m. and 5 p.m., Monday through Friday, except Federal holidays.

Instructions: All submissions must include the agency name and Docket Number (PHMSA-2017-0018) for this notice at the beginning of the comment. To avoid duplication, please use only one of these four methods. All comments received will be posted without change to the Federal Docket Management System (FDMS) and will include any personal information you provide.

Requests for a copy of an information collection should be directed to Steven Andrews or T. Glenn Foster, Standards and Rulemaking Division, (202) 366-8553, Pipeline and Hazardous Materials Safety Administration, U.S. Department of Transportation, 1200 New Jersey Avenue SE., Washington, DC 20590-0001.

Docket: For access to the dockets to read background documents or comments received, go to http://www.regulations.gov or DOT's Docket Operations Office (see ADDRESSES).

Privacy Act: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

FOR FURTHER INFORMATION CONTACT: Steven Andrews or T. Glenn Foster, Standards and Rulemaking Division, (202) 366-8553, Pipeline and Hazardous Materials Safety Administration, U.S. Department of Transportation, 1200 New Jersey Avenue SE., Washington, DC 20590-0001.

SUPPLEMENTARY INFORMATION: Section 1320.8 (d), title 5, Code of Federal Regulations (CFR) requires PHMSA to provide interested members of the public and affected agencies an opportunity to comment on information collection and recordkeeping requests. This notice identifies information collection requests that PHMSA will be submitting to the Office of Management and Budget (OMB) for renewal and extension. These information collections are contained in 49 CFR 171.6 of the Hazardous Materials Regulations (HMR; 49 CFR parts 171-180). PHMSA has revised burden estimates, where appropriate, to reflect current reporting levels or adjustments based on changes in proposed or final rules published since the information collections were last approved. The following information is provided for each information collection: (1) Title of the information collection, including former title if a change is being made; (2) OMB control number; (3) summary of the information collection activity; (4) description of affected public; (5) estimate of total annual reporting and recordkeeping burden; and (6) frequency of collection. PHMSA will request a 3-year term of approval for each information collection activity and will publish a notice in the Federal Register upon OMB's approval.

PHMSA requests comments on the following 11 information collections:

1. Title: Hazardous Materials Security Plans.

OMB Control Number: 2137-0612.

Summary: To assure public safety, shippers and carriers must take reasonable measures to plan and implement procedures to prevent unauthorized persons from taking control of, or attacking, hazardous materials shipments. Part 172 of the HMR requires persons who offer or transport certain hazardous materials to develop and implement written plans to enhance the security of hazardous materials shipments. The security plan requirements as prescribed in § 172.800(b) apply to specific types of shipments. Such shipments include but are not limited to: Shipments greater than 3,000 kg (6,614 pounds) for solids or 3,000 liters (792 gallons) for liquids and gases in a single packaging such as a cargo tank motor vehicle, portable tank, tank car, or other bulk container; any quantity of a Division 1.1, 1.2, or 1.3 material; a large bulk quantity of a Division 2.1 material; or any quantity of a poison-by-inhalation material. A security plan will enable shippers and carriers to reduce the possibility that a hazardous materials shipment will be used as a weapon of opportunity by a terrorist or criminal.

Affected Public: Shippers and carriers of hazardous materials in commerce.

Annual Reporting and Recordkeeping Burden:

Number of Respondents: 54,999.

Total Annual Responses: 54,999.

Total Annual Burden Hours: 427,719.

Frequency of Collection: On occasion.

2. Title: Rulemaking, Special Permits, and Preemption Requirements.

OMB Control Number: 2137-0051.

Summary: This collection of information applies to procedures for requesting changes, exceptions, and other determinations in relation to the HMR. Specific areas covered in this information collection include part 105, subparts A and B, “Hazardous Materials Program Definitions and General Procedures”; part 106, subpart B, “Participating in the Rulemaking Process”; part 107, subpart B, “Special Permits”; and part 107, subpart C, “Preemption.” The Federal hazardous materials transportation law directs the Secretary of Transportation to prescribe regulations for the safe transportation of hazardous materials in commerce. PHMSA is authorized to accept petitions for rulemaking and appeals, as well as applications for special permits, preemption determinations, and waivers of preemption. The types of information collected include:

(1) Petitions for Rulemaking: Any person may petition PHMSA to add, amend, or delete a regulation in parts 110, 130, 171 through 180, or may petition the Office of the Chief Counsel to add, amend, or delete a regulation in parts 105, 106, or 107. Petitions submitted to PHMSA are required to contain information as required by § 106.100 of the HMR.

(2) Appeals: Except as provided in § 106.40(e), any person may submit an appeal to our actions in accordance with the Appeals procedures found in §§ 106.110 through 106.130.

(3) Applications for Special Permit: Any person applying for a special permit must include the citation of the specific regulation from which the applicant seeks relief; specification of the proposed mode or modes of transportation; detailed description of the proposed special permit (e.g., alternative packaging, test, procedure, or activity), including as appropriate, written descriptions, drawings, flow charts, plans and other supporting documents, etc.

(4) Applications for Preemption Determination: With the exception of highway routing matters covered under 49 U.S.C. 5125(c), any person directly affected by any requirement of a State, political subdivision, or Indian tribe may apply to the Chief Counsel for a determination whether that requirement is preempted by § 107.202(a), (b), or (c). The application must include the text of the State, political subdivision, or Indian tribe requirement for which the determination is sought; specify each requirement of the Federal hazardous materials transportation law, regulations issued under the Federal hazardous material transportation law, or hazardous material transportation security regulations or directives issued by the Secretary of Homeland Security with which the applicant seeks the State, political subdivision, or Indian tribe requirement to be compared; explain why the applicant believes the State, political subdivision, or Indian tribe requirement should or should not be preempted under the standards of § 107.202; and state how the applicant is affected by the State, political subdivision, or Indian tribe requirement.

(5) Waivers of Preemption: With the exception of requirements preempted under 49 U.S.C. 5125(c), any person may apply to the Chief Counsel for a waiver of preemption with respect to any requirement that: (1) The State, political subdivision thereof, or Indian tribe acknowledges to be preempted under the Federal hazardous materials transportation law, or (2) has been determined by a court of competent jurisdiction to be so preempted. The Chief Counsel may waive preemption with respect to such requirement upon a determination that such requirement affords an equal or greater level of protection to the public than is afforded by the requirements of the Federal hazardous materials transportation law or the regulations issued thereunder, and does not unreasonably burden commerce.

The information collected under these application procedures is used in the review process by PHMSA in determining the merits of the petitions for rulemakings and for reconsideration of rulemakings, as well as applications for special permits, preemption determinations, and waivers of preemption to the HMR. The procedures governing these petitions for rulemaking and for reconsideration of rulemakings are covered in subpart B of part 106. Applications for special permits, preemption, determinations, and waivers of preemption are covered under subparts B and C of part 107. Rulemaking procedures enable PHMSA to determine if a rule change is necessary, is consistent with public interest, and maintains a level of safety equal to or superior to that of current regulations. Special permit procedures provide the information required for analytical purposes to determine if the requested relief provides for a comparable level of safety as provided by the HMR. Preemption procedures provide information for PHMSA to determine whether a requirement of a State, political subdivision, or Indian tribe is preempted under 49 U.S.C. 5125, or regulations issued thereunder, or whether a waiver of preemption should be issued.

Affected Public: Shippers, carriers, packaging manufacturers, and other affected entities.

Annual Reporting and Recordkeeping Burden:

Number of Respondents: 3,304

Total Annual Responses: 4,294

Total Annual Burden Hours: 4,899

Frequency of Collection: On occasion

3. Title: Requirements for United Nations (UN) Cylinders.

OMB Control Number: 2137-0621.

Summary: This information collection and recordkeeping burden is the result of efforts to amend the HMR to adopt standards for the design, construction, maintenance, and use of cylinders and multiple-element gas containers (MEGCs) based on the standards contained in the United Nations (UN) Recommendations on the Transport of Dangerous Goods. Aligning the HMR with the UN Recommendations promotes flexibility, permits the use of technological advances for the manufacture of the pressure receptacles, provides for a broader selection of pressure receptacles, reduces the need for special permits, and facilitates international commerce in the transportation of compressed gases. Information collection requirements address domestic and international manufacturers of cylinders that request approval by the approval agency for cylinder design types. The approval process for each cylinder design type includes review, filing, and recordkeeping of the approval application. The approval agency is required to maintain a set of the approved drawings and calculations for each design it reviews and a copy of each initial design type approval certificate approved by the Associate Administrator for not less than 20 years.

Affected Public: Fillers, owners, users, and retesters of UN cylinders.

Annual Reporting and Recordkeeping Burden:

Number of Respondents: 50

Total Annual Responses: 150

Total Annual Burden Hours: 900

Frequency of Collection: On occasion

4. Title: Response Plans for Shipments of Oil.

OMB Control Number: 2137-0591.

Summary: In recent years, several major oil discharges damaged the marine environment of the United States. Under authority of the Federal Water Pollution Control Act, as amended by the Oil Pollution Act of 1990, PHMSA issued regulations in 49 CFR part 130 that require preparation of written spill response plans.

Affected Public: Carriers that transport oil in bulk, by motor vehicle or rail.

Annual Reporting and Recordkeeping Burden:

Number of Respondents: 8,000

Total Annual Responses: 8,000

Total Annual Burden Hours: 10,560

Frequency of Collection: On occasion

5. Title: Cargo Tank Specification Requirements.

OMB Control Number: 2137-0014.

Summary: This information collection consolidates and describes the information collection provisions in parts 107, 178, and 180 of the HMR involving the manufacture, qualification, maintenance, and use of all specification cargo tank motor vehicles. It also includes the information collection and recordkeeping requirements for persons who are engaged in the manufacture, assembly, requalification, and maintenance of DOT specification cargo tank motor vehicles. The types of information collected include:

(1) Registration Statements: Cargo tank manufacturers and repairers, as well as cargo tank motor vehicle assemblers, are required to be registered with DOT and must furnish information relative to their qualifications to perform the functions in accordance with the HMR. DOT uses the registration statements to identify these persons to ensure they possess the knowledge and skills necessary to perform the required functions and that they are performing the specified functions in accordance with the applicable regulations.

(2) Requalification and Maintenance Reports: These reports are prepared by persons who requalify or maintain cargo tanks. This information is used by cargo tank owners, operators and users, and DOT compliance personnel to verify that the cargo tanks are requalified, maintained, and in proper condition for the transportation of hazardous materials.

(3) Manufacturers' Data Reports, Certificates, and Related Papers: These reports are prepared by cargo tank manufacturers and certifiers. They are used by cargo tank owners, operators, users, and DOT compliance personnel to verify that a cargo tank motor vehicle was designed and constructed to meet all requirements of the applicable specification.

Affected Public: Manufacturers, assemblers, repairers, requalifiers, certifiers, and owners of cargo tanks.

Annual Reporting and Recordkeeping Burden:

Number of Respondents: 41,366

Total Annual Responses: 132,600

Total Annual Burden Hours: 101,507

Frequency of Collection: On occasion

6. Title: Container Certification Statements.

OMB Control Number: 2137-0582.

Summary: Shippers of explosives, in freight containers or transport vehicles by vessel, are required to certify on shipping documentation that the freight container or transport vehicle meets minimal structural serviceability requirements. This requirement is intended to ensure an adequate level of safety for transport of explosives aboard vessel and consistency with similar requirements in international standards.

Affected Public: Shippers of explosives in freight containers or transport vehicles by vessel.

Annual Reporting and Recordkeeping Burden:

Number of Respondents: 650

Total Annual Responses: 890,000

Total Annual Burden Hours: 14,908

Frequency of Collection: On occasion

7. Title: Testing Requirements for Non-Bulk Packaging.

OMB Control Number: 2137-0572

Summary: This information collection consolidates and describes the information provisions in parts 173 and 180 of the HMR on the testing requirements for non-bulk packagings. This OMB control number covers performance-oriented packaging standards and allows packaging manufacturers and shippers more flexibility in selecting more economical packagings for their products. This information collection also allows customizing the design of packagings to better suit the transportation environment that they will encounter and encourages technological innovations, decreases packaging costs, and significantly reduces the need for special permits.

Affected Public: Each non-bulk packaging manufacturer that tests packagings to ensure compliance with the HMR.

Annual Reporting and Recordkeeping Burden:

Number of Respondents: 5,000

Total Annual Responses: 15,500

Total Annual Burden Hours: 32,500

Frequency of Collection: On occasion

8. Title: Testing, Inspection, and Marking Requirements for Cylinders.

OMB Control Number: 2137-0022

Summary: Requirements in § 173.301 for qualification, maintenance, and use of cylinders require that cylinders be periodically inspected and retested to ensure continuing compliance with packaging standards. Information collection requirements address registration of retesters and marking of cylinders by retesters with their identification number and retest date following the completion of required tests. Records showing the results of inspections and retests must be kept by the cylinder owner or designated agent until expiration of the retest period or until the cylinder is re-inspected or retested, whichever occurs first. These requirements are intended to ensure that retesters have the qualifications to perform tests and identify to cylinder fillers and users that cylinders are qualified for continuing use. Information collection requirements in § 173.303 require that fillers of acetylene cylinders keep, for at least 30 days, a daily record of the representative pressure to which cylinders are filled.

Affected Public: Fillers, owners, users, and retesters of reusable cylinders.

Annual Reporting and Recordkeeping Burden:

Number of Respondents: 139,352

Total Annual Responses: 153,287

Total Annual Burden Hours: 171,462

Frequency of Collection: On occasion

9. Title: Flammable Cryogenic Liquids.

OMB Control Number: 2137-0542

Summary: Provisions in § 177.840(a)(2) specify certain safety procedures and documentation requirements for drivers of motor vehicles transporting flammable cryogenic liquids. This information allows the driver to take appropriate remedial actions to prevent a catastrophic release of the flammable cryogenics should the temperature of the material begin to rise excessively or if the travel time will exceed the safe travel time. These requirements are intended to ensure a high level of safety when transporting flammable cryogenics due to their extreme flammability and high compression ratio when in a liquid state.

Affected Public: Carriers of cryogenic materials.

Annual Reporting and Recordkeeping Burden:

Number of Respondents: 65

Total Annual Responses: 18,200

Total Annual Burden Hours: 1,213

Frequency of Collection: On occasion

10. Title: Approval for Hazardous Materials.

OMB Control Number: 2137-0557

Summary: Without these requirements there is no means to: (1) Determine whether applicants who apply to become designated approval agencies are qualified to evaluate package design, test packages, classify hazardous materials, etc.; (2) verify that various containers and special loading requirements for vessels meet the requirements of the HMR; and (3) assure that regulated hazardous materials pose no danger to life and property during transportation.

There are several approval provisions contained in the HMR and associated procedural regulations. Responses to these collections of information are required to obtain benefits, such as becoming an approval or certification agency, or to obtain a variance from packaging or handling requirements based on information provided by the respondent. These benefits and variances involve areas, for example, such as UN third-party certification; authorization to examine and test lighters; authorization to examine and test explosives; and authorization to re-qualify DOT cylinders

Affected Public: Business and other entities who must meet the approval requirements in the HMR.

Annual Reporting and Recordkeeping Burden:

Number of Respondents: 10,723

Total Annual Responses: 11,074

Total Annual Burden Hours: 28,270

Frequency of Collection: On occasion

11. Title: Rail Carrier and Tank Car Tanks Requirements, Rail Tank Car Tanks—Transportation of Hazardous Materials by Rail.

OMB Control Number: 2137-0559

Summary: This information collection consolidates and describes the information provisions in parts 172, 173, 174, 179, and 180 of the HMR on the transportation of hazardous materials by rail and the manufacture, qualification, maintenance, and use of tank cars. The types of information collected include:

(1) Approvals of the Association of American Railroads (AAR) Tank Car Committee: An approval is required from the AAR Tank Car Committee for a tank car to be used for a commodity other than those specified in part 173 and on the certificate of construction. This information is used to ascertain whether a commodity is suitable for transportation in a tank car. AAR approval is also required for an application for approval of designs, materials and construction, conversion or alteration of tank car tanks constructed to a specification in part 179, or an application for construction of tank cars to any new specification. This information is used to ensure that the design, construction, or modification of a tank car or the construction of a tank car to a new specification is performed in accordance with the applicable requirements.

(2) Progress Reports: Each owner of a tank car that is required to be modified to meet certain requirements specified in § 173.31 must submit a progress report to the Federal Railroad Administration (FRA). FRA uses this information to ensure that all affected tank cars are modified before the regulatory compliance date.

(3) FRA Approvals: An approval is required from FRA to transport a bulk packaging (such as a portable tank, IM portable tank, intermediate bulk container, cargo tank, or multi-unit tank car tank) containing a hazardous material in container-on-flat-car or trailer-on-flat-car service other than as authorized by § 174.63. FRA uses this information to ensure that the bulk package is properly secured using an adequate restraint system during transportation. An FRA approval is also required for the movement of any tank car that does not conform to the applicable requirements in the HMR. These latter movements are currently being reported under the information collection for special permit applications.

(4) Manufacturer Reports and Certificate of Construction: These documents are prepared by tank car manufacturers and used by owners, users, and FRA personnel to verify that rail tank cars conform to the applicable specification.

(5) Quality Assurance Program: Facilities that build, repair, and ensure the structural integrity of tank cars are required to develop and implement a quality assurance program. This information is used by the facility and DOT compliance personnel to ensure that each tank car is constructed or repaired in accordance with the applicable requirements.

(6) Inspection Reports: A written report must be prepared and retained for each tank car that is inspected and tested in accordance with § 180.509 of the HMR. Rail carriers, users, and FRA use this information to ensure that rail tank cars are properly maintained and in safe condition for transporting hazardous materials.

Affected Public: Manufacturers, owners, and rail carriers of tank.

Annual Reporting and Recordkeeping Burden:

Number of Respondents: 266

Total Annual Responses: 17,685

Total Annual Burden Hours: 2,834

Frequency of Collection: Annually

Issued in Washington, DC, on April 17, 2017.
William S. Schoonover,
Associate Administrator of Hazard Materials Safety, Pipeline and Hazardous Materials Safety Administration.

[FR Doc. 2017-08045 Filed 4-20-17; 8:45 am]

BILLING CODE 4910-60-P